DEPARTMENT OF COMMERCE

National Oceanic and Atmospheric Administration

Evaluation of State Coastal Management Programs

AGENCY: Office for Coastal Management, National Ocean Service, National Oceanic and Atmospheric Administration, Department of Commerce.

ACTION: Notice.

SUMMARY: The National Oceanic and Atmospheric Administration (NOAA), Office for Coastal Management will hold a public meeting to solicit comments on the performance evaluation of the Maine Coastal Management Program. Written comments on the performance evaluation will also be accepted.

DATES: Maine Coastal Management Program Evaluation: The public meeting will be held on May 3, 2017, and written comments must be received on or before May 12, 2017.

For specific dates, times, and locations of the public meetings, see SUPPLEMENTARY INFORMATION.

ADDRESSES: You may submit comments on the performance evaluation of the Maine Coastal Management Program.by any of the following methods:

Public Meeting and Oral Comments: A public meeting will be held in Wiscasset, Maine. For the specific location, see SUPPLEMENTARY INFORMATION.

Written Comments: Please direct written comments to Carrie Hall, Evaluator, Planning and Performance Measurement Program, Office for Coastal Management, NOS/NOAA, 1305 East-West Highway, 11th Floor, N/OCM1, Silver Spring, Maryland 20910, or email comments Carrie.Hall@noaa.gov. Written comments must be received on or before May 12, 2017.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov. Copies of the most recent progress report, previous evaluation findings, and 2016-2020 Assessment and Strategy may be viewed and downloaded on the Internet at http://coast.noaa.gov/czm/evaluations.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Specific information on the periodic evaluation of the state and territorial coastal program that is the subject of this notice is detailed below as follows:

Maine Coastal Management Program Evaluation

You may participate or submit oral comments at the public meeting scheduled as follows:

Date: May 3, 2017.

Time: 5:00 p.m., local time.

Location: Offices of the Lincoln County Regional Planning Commission, 297 Bath Road (US Route 1), Wicasset, Maine.

Written public comments must be received on or before May 12, 2017.

(Federal Domestic Assistance Catalog 11.419 Coastal Zone Management Program Administration)

Dated: March 10, 2017.
Paul M. Scholz,
Deputy Director, Office for Coastal Management, National Ocean Service, National Oceanic and Atmospheric Administration.

[FR Doc. 2017-05249 Filed 3-16-17; 8:45 am]

BILLING CODE 3510-08-P